FEDERAL DEPOSIT INSURANCE CORPORATION

Update to Notice of Financial Institutions for Which the Federal Deposit Insurance Corporation Has Been Appointed Either Receiver, Liquidator, or Manager

AGENCY: Federal Deposit Insurance Corporation.

ACTION: Update listing of financial institutions in liquidation.

SUMMARY: The Federal Deposit Insurance Corporation (Corporation) has adopted a policy statement concerning 12 U.S.C. 1825(b)(2) and 28 U.S.C. 2410(c). The policy statement and an initial listing of financial institutions in liquidation were published in the July 2, 1992 issue of the Federal Register (57 FR 29491). A Clarification of Applicability of the Statement of Policy was published in the October 11, 1996 issue of the Federal Register (61 FR 53494). The following is a listing of financial institutions in liquidation of the Corporation, superseding the listing published in the July 2, 1992 issue of the Federal Register at page 29494, and all subsequent updates thereto, through and including the most recent update set forth in the October 11, 1996 issue of the Federal Register (61 FR 53496). The respective states in which each of the institutions in liquidation is located are set forth in the lists of the financial institutions in liquidation. This list (as updated in the Federal Register from time to time) constitutes the financial institutions in liquidation from January 1, 2008 through year end 2009 and may be relied upon (as updated from time to time in the Federal Register) as “of record” notice that the Corporation has been appointed receiver for purposes of the statement of policy. For information concerning the identification of any institutions which have been placed in liquidation subsequent to the date of publication, please visit the Corporation Web site at http://www.fdic.gov/bank/individual/failed/banklist.html or contact the Manager of Receivership Oversight in the appropriate service center.

This listing does not include receiverships that have been terminated by the Receiver. Any assets of a terminated receivership cede to the Federal Deposit Insurance Corporation in its corporate capacity. For information concerning any receivership which has been terminated, contact the Manager of Receivership Oversight in the appropriate service center.

Dated: January 20, 2010.
Federal Deposit Insurance Corporation.
Robert Feldman,
Executive Secretary.

Institutions in Liquidation (2008 and Later)
[In alphabetical order]
Bank Ref. No. | Bank name | City | State | Date closed
10030 | 1st Centennial Bank | Redlands | CA | 1/23/2009
10110 | Affinity Bank | Ventura | CA | 8/28/2009
10035 | Alliance Bank, N.A | Culver City | CA | 2/06/2009
10018 | Alpha Bank & Trust | Alpharetta | GA | 10/24/2008
10014 | Ameribank, Inc | Northfork | WV | 9/19/2008
10057 | America West Bank | Layton | UT | 5/01/2009
10053 | American Southern Bank | Kennesaw | GA | 4/24/2009
10052 | American Sterling Bank | Sugar Creek | MO | 4/17/2009
10127 | American United Bank | Lawrenceville | GA | 10/23/2009
10155 | AmTrust Bank | Cleveland | OH | 12/04/2009
10005 | ANB Financial, NA | Bentonville | AR | 5/09/2008
10029 | Bank of Clark County | Vancouver | WA | 1/19/2009
10132 | Bank of Elmwood | Racine | WI | 10/23/2009
10064 | Bank of Lincolnwood | Lincolnwood | IL | 6/05/2009
10080 | Bank of Wyoming | Thermopolis | WY | 7/10/2009
10136 | Bank USA, N.A | Phoenix | AZ | 10/30/2009
10081 | BankFirst | Sioux Falls | SD | 7/17/2009
10061 | BankUnited FSB | Coral Gables | FL | 5/21/2009
10154 | Benchmark Bank | Aurora | IL | 12/04/2009
10109 | Bradford Bank | Baltimore | MD | 8/28/2009
10118 | Brickwell Community Bank | Woodbury | MN | 9/11/2009
10152 | Buckhead Community Bank, The | Atlanta | GA | 12/04/2009
10134 | California National Bank | Los Angeles | CA | 10/30/2009
10049 | Cape Fear Bank | Wilmington | NC | 4/10/2009
10106 | Capitalsouth Bank | Birmingham | AL | 8/21/2009
10148 | Century Bank, F.S.B | Sarasota | FL | 11/13/2009
10058 | Citizens Community Bank | Ridgewood | NJ | 5/01/2009
10063 | Citizens National Bank | Macomb | IL | 5/22/2009
10141 | Citizens National Bank | Teague | TX | 10/30/2009
10162 | Citizens State Bank | New Baltimore | MI | 12/18/2009
10103 | Colonial Bank | Montgomery | AL | 8/14/2009
10045 | Colorado National Bank | Colorado Springs | CO | 3/20/2009
10011 | Columbian Bank and Trust Company, The | Topeka | KS | 8/22/2008
10151 | Commerce Bank of Southwest Florida | Fort Myers | FL | 11/20/2009
10101 | Community Bank of Arizona | Phoenix | AZ | 8/14/2009
10137 | Community Bank of Lemont | Lemont | IL | 10/30/2009
10100 | Community Bank of Nevada | Las Vegas | NV | 8/14/2009
10068 | Community Bank of West Georgia | Villa Rica | GA | 6/26/2009
10022 | Community Bank, The | Loganville | GA | 11/21/2008
10092 | Community First Bank | Prineville | OR | 8/07/2009
10099 | Community National Bank of Sarasota City | Venice | FL | 8/07/2009
10065 | Cooperative Bank | Wilmington | NC | 6/19/2009
10037 | Corn Belt Bank and Trust Company | Pittsfield | IL | 2/13/2009
10117 | Corus Bank, N.A | Chicago | IL | 9/11/2009
10034 | County Bank | Merced | CA | 2/06/2009
10003 | Douglass National Bank | Kansas City | MO | 1/25/2008
10023 | Downey Savings & Loan | Newport Beach | CA | 11/21/2008
10104 | Dwelling House Savings & Loan | Pittsburgh | PA | 8/14/2009
10107 | Ebank | Atlanta | GA | 8/21/2009
10073 | Elizabeth State Bank, The | Elizabeth | IL | 7/02/2009
10054 | First Bank of Beverly Hills | Calabasas | CA | 4/24/2009
10055 | First Bank of Idaho, FSB | Ketchum | ID | 4/24/2009
10112 | First Bank of Kansas City | Kansas City | MO | 9/04/2009
10097 | First BankAmericano | Elizabeth | NJ | 7/31/2009
10108 | First Coweta Bank | Newnan | GA | 8/21/2009
10128 | First DuPage Bank | Westmont | IL | 10/23/2009
10167 | First Federal Bank of California, F.S.B | Santa Monica | CA | 12/18/2009
10025 | First Georgia Community Bank | Jackson | GA | 12/5/2008
10009 | First Heritage Bank, NA | Newport Beach | CA | 7/25/2008
10006 | First Integrity Bank, NA | Staples | MN | 5/30/2008
10066 | First National Bank of Anthony, The | Anthony | KS | 6/19/2009
10078 | First National Bank of Danville, The | Danville | IL | 7/02/2009
10008 | First National Bank of Nevada | Reno | NV | 7/25/2008
10084 | First Piedmont Bank | Winder | GA | 7/17/2009
10010 | First Priority Bank | Bradenton | FL | 8/01/2008
10157 | First Security National Bank | Norcross | GA | 12/04/2009
10114 | First State Bank | Flagstaff | AZ | 9/04/2009
10098 | First State Bank | Sarasota | FL | 8/07/2009
10093 | First State Bank of Altus | Altus | OK | 7/31/2009
10077 | First State Bank of Winchester, The | Winchester | IL | 7/02/2009
10036 | Firstbank Financial Services | Mcdonough | GA | 2/06/2009
10047 | Firstcity Bank | Stockbridge | GA | 3/20/2009
10129 | Flagship National Bank | Bradenton | FL | 10/23/2009
10074 | Founders Bank | Worth | IL | 7/02/2009
10021 | Franklin Bank, SSB | Houston | TX | 11/07/2008
10019 | Freedom Bank | Bradenton | FL | 10/31/2008
10044 | Freedom Bank of Georgia | Commerce | GA | 3/06/2009
10146 | Gateway Bank of St. Louis | St. Louis | MO | 11/06/2009
10122 | Georgian Bank | Atlanta | GA | 9/25/2009
10051 | Great Basin Bank of Nevada | Elko | NV | 4/17/2009
10156 | Greater Atlantic Bank | Reston | VA | 12/04/2009
10105 | Guaranty Bank | Austin | TX | 8/21/2009
10027 | Haven Trust Bank | Duluth | GA | 12/12/2008
10042 | Heritage Community Bank | Glenwood | IL | 2/27/2009
10131 | Hillcrest Bank Florida | Naples | FL | 10/23/2009
10144 | Home Federal Savings Bank | Detroit | MI | 11/06/2009
10070 | Horizon Bank | Pine City | MN | 6/26/2009
10004 | Hume Bank | Hume | MO | 3/07/2008
10161 | Imperial Capital Bank | La Jolla | CA | 12/18/2009
10113 | Inbank | Oak Forest | IL | 9/04/2009
10166 | Independent Bankers' Bank | Springfield | IL | 12/18/2009
10007 | Indymac Bank, FSB | Pasadena | CA | 7/11/2008
10095 | Integrity Bank | Jupiter | FL | 7/31/2009
10012 | Integrity Bank | Alpharetta | GA | 8/29/2008
10120 | Irwin Union Bank and Trust Company | Columbus | IN | 9/18/2009
10121 | Irwin Union Bank, FSB | Columbus | IN | 9/18/2009
10124 | Jennings State Bank | Spring Grove | MN | 10/02/2009
10076 | John Warner Bank, The | Clinton | IL | 7/02/2009
10142 | Madisonville State Bank | Madisonville | TX | 10/30/2009
10031 | Magnet Bank | Salt Lake City | UT | 1/30/2009
10016 | Main Street Bank | Northville | MI | 10/10/2008
10111 | Mainstreet Bank | Forest Lake | MN | 8/28/2009
10017 | Meridian Bank | Eldred | IL | 10/10/2008
10071 | Metropolitan Bank, N.A | Irvine | CA | 6/26/2009
10056 | Michigan Heritage Bank | Farmington Hills | MI | 4/24/2009
10079 | Millennium State Bank of Texas | Dallas | TX | 7/02/2009
10072 | Mirae Bank | Los Angeles | CA | 6/26/2009
10094 | Mutual Bank | Harvey | IL | 7/31/2009
10028 | National Bank of Commerce | Berkeley | IL | 1/16/2009
10069 | Neighborhood Community Bank | Newnan | GA | 6/26/2009
10050 | New Frontier Bank | Greeley | CO | 4/10/2009
10163 | New South Federal Savings Bank | Irondale | AL | 12/18/2009
10138 | North Houston Bank | Houston | TX | 10/30/2009
10048 | Omni National Bank | Atlanta | GA | 3/27/2009
10149 | Orion Bank | Naples | FL | 11/13/2009
10150 | Pacific Coast National Bank | San Clemente | CA | 11/13/2009
10139 | Pacific National Bank | San Francisco | CA | 10/30/2009
10140 | Park National Bank | Chicago | IL | 10/30/2009
10130 | Partners Bank | Naples | FL | 10/23/2009
10096 | Peoples Community Bank | West Chester | OH | 7/31/2009
10165 | Peoples First Community Bank | Panama City | FL | 12/18/2009
10024 | PFF Bank & Trust | Pomon | CA | 11/21/2008
10040 | Pinnacle Bank | Beaverton | OR | 2/13/2009
10115 | Platinum Community Bank | Rolling Meadows | IL | 9/04/2009
10143 | Prosperan Bank | Oakdale | MN | 11/06/2009
10158 | Republic Federal Bank, N.A | Miami | FL | 12/11/2009
10038 | Riverside Bank of the Gulf Coast | Cape Coral | FL | 2/13/2009
10133 | Riverview Community Bank | Otsego | MN | 10/23/2009
10075 | Rock River Bank | Oregon | IL | 7/02/2009
10164 | RockBridge Commercial Bank | Atlanta | GA | 12/18/2009
10135 | San Diego National Bank | San Diego | CA | 10/30/2009
10126 | San Joaquin Bank | Bakersfield | CA | 10/16/2009
10026 | Sanderson State Bank | Sanderson | TX | 12/12/2008
10085 | Security Bank of Bibb County | Macon | GA | 7/24/2009
10086 | Security Bank of Gwinnett County | Suwanee | GA | 7/24/2009
10087 | Security Bank of Houston County | Perry | GA | 7/24/2009
10088 | Security Bank of Jones County | Gray | GA | 7/24/2009
10089 | Security Bank of North Fulton | Alpharetta | GA | 7/24/2009
10090 | Security Bank of North Metro | Woodstock | GA | 7/24/2009
10020 | Security Pacific Bank | Los Angeles | CA | 11/07/2008
10043 | Security Savings Bank | Henderson | NV | 2/27/2009
10039 | Sherman County Bank | Loup City | NE | 2/13/2009
10041 | Silver Falls Bank | Silverton | OR | 2/20/2009
10013 | Silver State Bank | Henderson | NV | 9/05/2008
10059 | Silverton Bank, N.A | Atlanta | GA | 5/01/2009
10160 | SolutionsBank | Overland Park | KS | 12/11/2009
10123 | Southern Colorado National Bank | Pueblo | CO | 10/02/2009
10067 | Southern Community Bank | Fayetteville | GA | 6/19/2009
10062 | Strategic Capital Bank | Champaign | IL | 5/22/2009
10033 | Suburban Federal Savings Bank | Crofton | MD | 1/30/2009
10153 | Tattnall Bank, The | Reidsville | GA | 12/04/2009
10046 | Team Bank, N.A | Paola | KS | 3/20/2009
10082 | Temecula Valley Bank | Temecula | CA | 7/17/2009
10102 | Union Bank, N.A | Gilbert | AZ | 8/14/2009
10147 | United Commercial Bank | San Francisco | CA | 11/06/2009
10145 | United Security Bank | Sparta | GA | 11/06/2009
10159 | Valley Capital Bank, N.A | Mesa | AZ | 12/11/2009
10116 | Vantus Bank | Sioux City | IA | 9/04/2009
10119 | Venture Bank | Lacey | WA | 9/11/2009
10083 | Vineyard Bank, N.A | Rancho Cucamonga | CA | 7/17/2009
10125 | Warren Bank | Warren | MI | 10/02/2009
10015 | Washington Mutual Bank | Henderson | NV | 9/25/2008
10091 | Waterford Village Bank | Williamsville | NY | 7/24/2009
10060 | Westsound Bank | Bremeron | WA | 5/08/2009

[FR Doc. 2010-1560 Filed 1-26-10; 8:45 am]

BILLING CODE 6714-01-P